DEPARTMENT OF TRANSPORTATION

Federal Aviation Administration

14 CFR Part 39

[Docket No. FAA-2005-22035; Directorate Identifier 2005-NM-016-AD; Amendment 39-14442; AD 2006-01-03]

RIN 2120-AA64

Airworthiness Directives; Airbus Model A300 B2 and B4 Series Airplanes

AGENCY: Federal Aviation Administration (FAA), Department of Transportation (DOT).

ACTION: Final rule.

SUMMARY: The FAA is adopting a new airworthiness directive (AD) for all Airbus Model A300 B2 and B4 series airplanes. This AD requires repetitive replacement of the angle of attack (AOA) sensors with new or overhauled AOA sensors. This AD also provides an optional terminating action for the repetitive replacements. This AD results from reports of several false stall warnings associated with stick-shaker activation, occurring during take-off. We are issuing this AD to prevent false stall warnings associated with stick-shaker activation, which could result in increased pilot workload as the pilot tries to determine the cause of the stall warning and possible reduction in the pilot's ability to control the airplane.

DATES: This AD becomes effective February 21, 2006.

The Director of the Federal Register approved the incorporation by reference of certain publications listed in the AD as of February 21, 2006.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tom Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A300 B2 and B4 series airplanes. That NPRM was published in the Federal Register on August 8, 2005 (70 FR 45592). That NPRM proposed to require an inspection to determine the part number of all angle of attack (AOA) sensors, and repetitive replacement of the AOA sensors with new or overhauled AOA sensors if necessary.

Relevant Service Information

After the NPRM was issued, we received Airbus Service Bulletin A300-34-0092, Revision 04, dated April 25, 2005. Revision 03, dated November 2, 2004, was referenced as the appropriate source of service information for accomplishing the optional terminating action specified in paragraph (g) of the NPRM. We have reviewed Revision 04 of the service bulletin and have determined that the procedures for replacing the Honeywell AOA sensors with “vane type” AOA sensors and replacing the current detectors in relay boxes 252VU and 107VU with new current detectors are identical to the procedures in Revision 03 of the service bulletin. Therefore, we have revised paragraph (g) of this AD to reference Revision 04 of the service bulletin as the appropriate source of service information for accomplishing the optional terminating action. We have also moved reference to Revision 03 of the service bulletin to paragraph (k) of this AD to give credit for actions done in accordance with Revision 03 before the effective date of this AD.

Comments

We provided the public the opportunity to participate in the development of this AD. We have considered the comments received.

Request To Revise the Applicability

One commenter, the airplane manufacturer, requests that we limit the applicability of the NPRM to certain Airbus Model A300 B2 and B4 series airplanes equipped with Honeywell angle of attack (AOA) sensors having part number 965-4020-007. The commenter states that this matches the applicability of French airworthiness directive F-2003-457 R1, dated December 22, 2004. As justification for limiting the applicability, the commenter asserts that operators can easily trace the affected part on their airplanes. The commenter also states that limiting the applicability will relieve operators from inspecting airplanes, which are not equipped with the affected AOA sensor.

We do not agree to revise the applicability of this AD. Even if operators could easily trace AOA sensors installed on an airplane, this AD must be applicable to all Model A300 B2 and B4 series airplanes to ensure that an affected AOA sensor is not installed on an airplane after the effective date of this AD. However, we have added a provision to paragraph (f) of this AD to relieve operators of the inspection requirement. Operators may conduct a review of airplane maintenance records, instead of doing an inspection, if the part numbers of the AOA sensors can positively be determined from that review.

Request To Delete Compliance Time

The same commenter requests that we delete the compliance time for replacing the AOA sensor before further flight, as specified in paragraph (f) of the NPRM. The commenter states that it is not possible to comply with this compliance time because Airbus Service Bulletin A300-34-0176, Revision 01, dated February 3, 2004, recommends replacing an affected AOA sensor with an overhauled AOA sensor, which would require operators to return the affected AOA sensor to the parts manufacturer for overhaul.

We do not agree. In developing an appropriate compliance time for this action, we considered the safety implications, parts availability, and normal maintenance schedules for the timely accomplishment of the replacement. In consideration of these items, we have determined that replacing an affected AOA sensors before further flight after inspecting to the determine its part number will ensure an acceptable level of safety and allow the replacement to be done during scheduled maintenance intervals for most affected operators. Also, we point out that paragraph (g) of this AD provides an optional terminating action to the repetitive replacements required by paragraph (f) of this AD. This terminating action allows operators to replace the affected AOA sensors with “vane type” AOA sensors and does not require returning an affected AOA sensor to the parts manufacturer for overhaul. According to the manufacturer, an ample number of “vane type” AOA sensors will be available to modify the U.S. fleet within the proposed compliance time. Furthermore, according to the provisions of paragraph (l) of this AD, we may approve requests to adjust the compliance time if the request includes data that prove that the new compliance time would provide an acceptable level of safety.

Request To Reduce the Compliance Time

One commenter states that a compliance time of 4,500 flight hours or 36 months is too long given that the unsafe condition could result in increased pilot workload as the pilot tries to determine the cause of the stall warning and possible reduction in the pilot's ability to control the airplane. We infer the commenter would like us to reduce the compliance time.

We disagree. After considering all the available information, we have determined that the compliance time, as proposed, represents an appropriate interval of time for accomplishing the required actions in a timely manner within the affected fleet, while still maintaining an adequate level of safety. In developing an appropriate compliance time, we considered the safety implications, parts availability, and normal maintenance schedules for timely accomplishment of the inspection. Furthermore, we arrived at the compliance time of 4,500 flight hours or 36 months, whichever is first, with concurrence from the manufacturer and the Direction Générale de l'Aviation Civile (DGAC), which is the airworthiness authority for France. Reducing the compliance time would necessitate (under the provisions of the Administrative Procedure Act) reissuing the notice, reopening the period for public comment, considering additional comments subsequently received, and eventually issuing a final rule. That procedure could take as long as four months. We have determined that further delay of this AD is inappropriate. However, if additional data are presented that would justify a shorter compliance time, we may consider further rulemaking on this issue.

Clarification of Alternative Method of Compliance (AMOC) Paragraph

We have revised this AD to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
Inspection | 1 | $65 | None | $65 | 20 | $1,300.
Replacement, per replacement cycle | 2 | 65 | $3,300 ($1,100 per sensor) | 3,430 | 20 | $68,600, per replacement cycle.
Optional terminating action | 7 | 65 | $8,780 | 9,235 | 20 | $184,700.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-03 Airbus: Amendment 39-14442. Docket No. FAA-2005-22035; Directorate Identifier 2005-NM-016-AD.

Effective Date

(a) This AD becomes effective February 21, 2006.

Affected ADs

(b) None.

Applicability

(c) This AD applies to all Airbus Model A300 B2-1A, B2-1C, B2K-3C, and B2-203 airplanes; and Model A300 B4-2C, B4-103, and B4-203 airplanes; certificated in any category.

Unsafe Condition

(d) This AD was prompted by reports of several false stall warnings associated with stick-shaker activation, occurring during take-off. We are issuing this AD to prevent false stall warnings associated with stick-shaker activation, which could result in increased pilot workload as the pilot tries to determine the cause of the stall warning and possible reduction in the pilot's ability to control the airplane.

Compliance

(e) You are responsible for having the actions required by this AD performed within the compliance times specified, unless the actions have already been done.

Repetitive Replacements

(f) Within 4,500 flight hours or 36 months after the effective date of this AD, whichever is first: Inspect zone 120 to determine the part numbers (P/Ns) of all three angle of attack (AOA) sensors, in accordance with the Accomplishment Instructions of Airbus Service Bulletin A300-34-0176, Revision 01, dated February 3, 2004. Instead of inspecting zone 120 to determine the P/Ns of the AOA sensors, a review of airplane maintenance records is acceptable if the P/Ns of the AOA sensors can be conclusively determined from that review. If no Honeywell AOA sensor having part number (P/N) 965-4020-007 is found, then no further action is required by this paragraph. If any Honeywell AOA sensor having P/N 965-4020-007 is found, before further flight, replace the AOA sensor with a new or overhauled AOA sensor having P/N 965-4020-007, in accordance with the service bulletin. Repeat the replacement thereafter at intervals not to exceed 8,000 flight hours or 96 months, whichever is first. Accomplishing the actions specified in paragraph (g) of this AD terminates the repetitive replacements.

Optional Terminating Action

(g) Replacement of all Honeywell AOA sensors having P/N 965-4020-007 between frame (FR)18 and FR19 with “vane type” AOA sensors; and replacement of the current detectors in relay boxes 252VU and 107VU with new current detectors; in accordance with the Accomplishment Instructions of Airbus Service Bulletin A300-34-0092, Revision 04, dated April 25, 2005; terminate the repetitive replacements required by paragraph (f) of this AD.

No Reporting Requirement

(h) Although Airbus Service Bulletin A300-34-0176, Revision 01, dated February 3, 2004, specifies to submit certain information to the manufacturer, this AD does not include that requirement.

Parts Installation

(i) As of the effective date of this AD, no person may install an AOA sensor having P/N 965-4020-007 on any airplane, unless it is new or overhauled. Thereafter repetitively replace the new or overhauled AOA sensor in accordance with paragraph (f) of this AD.

Credit for Previously Accomplished Actions

(j) Actions done before the effective date of this AD in accordance with Airbus Service Bulletin A300-34-0176, dated July 9, 2003, are acceptable for compliance with the corresponding requirements of paragraph (f) of this AD.

Credit for Optional Terminating Action

(k) Actions done before the effective date of this AD in accordance with Airbus Service Bulletin A300-34-092, Revision 2, dated July 18, 1985, or Airbus Service Bulletin A300-34-0092, Revision 03, dated November 2, 2004, are acceptable for compliance with the requirements of paragraph (g) of this AD.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(m) French airworthiness directive F-2003-457 R1, dated December 22, 2004, also addresses the subject of this AD.

Material Incorporated by Reference

(n) You must use Airbus Service Bulletin A300-34-0176, Revision 01, excluding Appendix 01, dated February 3, 2004, to perform the actions that are required by this AD, unless the AD specifies otherwise. The optional terminating action provided by paragraph (g) of this AD, if accomplished, must be done in accordance with Airbus Service Bulletin A300-34-0092, Revision 04, dated April 25, 2005. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 5, 2006.
Ali Bahrami,
Manager, Transport Airplane Directorate, Aircraft Certification Service.

[FR Doc. 06-315 Filed 1-13-06; 8:45 am]

BILLING CODE 4910-13-P